DEPARTMENT OF THE INTERIOR

Minerals Management Service

Agency Information Collection Activities: Proposed Collection, Comment Request

AGENCY: Minerals Management Service (MMS), Interior.

ACTION: Notice of revision of an information collection (OMB Control Number 1010-0120).

SUMMARY: To comply with the Paperwork Reduction Act of 1995, we are soliciting comments on an information collection titled, Solid Minerals Production and Royalty Report, MMS-4430. We will submit an information collection request (ICR) to the Office of Management and Budget (OMB) for review and approval after this comment period closes.

DATES: Submit written comments on or before October 2, 2000.

ADDRESSES: Submit written comments to David S. Guzy, Chief, Rules and Publications Staff, Minerals Management Service, Royalty Management Program, P.O. Box 25165, MS 3021, Denver, Colorado 80225. If you use an overnight courier service, our courier address is Building 85, Room A-613, Denver Federal Center, Denver, Colorado 80225.

PUBLIC COMMENT PROCEDURE: Submit your comments to the offices listed in the ADDRESSES section, or email your comments to us at RMP.comments@mms.gov. Include the title of the information collection and the OMB Control Number in the “Attention” line of your comment; also, include your name and return address. Submit electronic comments as an ASCII file avoiding the use of special characters and any form of encryption. If you do not receive a confirmation that we have received your email, contact Mr. Guzy at (303) 231-3432, FAX (303) 231-3385. We will post all comments at http://www.rmp.mms.gov for public review.

Also, contact Mr. Guzy to review paper copies of the comments. The comments, including names and addresses of respondents, are available for public review during regular business hours at our offices in Lakewood, Colorado. Individual respondents may request that we withhold their home address from the public record, which we will honor to the extent allowable by law. There also may be circumstances in which we would withhold from the public record a respondent's identity, as allowable by law. If you request that we withhold your name and/or address, state this prominently at the beginning of your comment. However, we will not consider anonymous comments. We will make all submissions from organizations or businesses, and from individuals identifying themselves as representatives or officials of organizations or businesses, available for public inspection in their entirety.

FOR FURTHER INFORMATION CONTACT: Dennis C. Jones, Rules and Publications Staff, phone (303) 231-3046, FAX (303) 231-3385, email Dennis.C.Jones@mms.gov. A copy of the ICR will be available to you without charge upon request.

SUPPLEMENTARY INFORMATION: Title: Solid Minerals Production and Royalty Report

OMB Control Number: 1010-0120.

Bureau Form Number: MMS-4430.

Abstract: The Department of the Interior (DOI) is responsible for matters relevant to mineral resource development on Federal and Indian Lands and the Outer Continental Shelf (OCS). The Secretary of the Interior (Secretary) is responsible for managing the production of minerals from Federal and Indian Lands and the OCS; for collecting royalties from lessess who produce minerals; and for distributing the funds collected in accordance with applicable laws. The Secretary also has an Indian trust responsibility to manage Indian lands and seek advice and information from Indian beneficiaries. We perform the royalty management functions and assist the Secretary in carrying out DOI's Indian trust responsibility.

When a company or an individual enters into a contract or lease to develop, mine, and dispose of Federal or Indian minerals, that company or individual (the respondent) agrees to pay the appropriate royalty due based upon gross proceeds received from the sale of production from the leased lands. Royalty rates are specified in the lease agreement.

Specific lease language varies; however, respondents agree by the lease terms to furnish statements providing the details of all operations conducted on a lease and the quantity and quality of all production from the lease at such times and in such form as the Secretary may prescribe. Rules require respondents to provide accurate, complete, and timely reports for all minerals produced, in the manner and form prescribed by MMS in 30 CFR 210 Subpart E and 216.21. In January 1999, we introduced the Production and Royalty Report, Form MMS-4430, to collect the required information from respondents participating in the solid minerals operational model. Because of the success of this streamlined reporting method, we are proposing to expand the use of this report to all solid mineral operators.

Submission of this information collection will be mandatory. Proprietary information that is submitted is protected, and there are no questions of a sensitive nature included in this information collection.

Frequency: Monthly.

Estimated Number and Description of Respondents: 290 solid mineral operators.

Estimated Annual Reporting and Recordkeeping “Hour” Burden: 1 hour.

Estimated Annual Reporting and Recordkeeping “Non-hour Cost” Burden: n/a.

Comments: The Paperwork Reduction Act, 44 U.S.C. 3506(c)(2)(A), requires each agency “to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The PRA also require agencies to estimate the total annual reporting “non-hour cost” burden to respondents or recordkeepers resulting from the collection of information. We have not identified non-hour cost burdens and need to know if there are other costs associated with the collection of this information for either total capital and startup cost components or annual operation, maintenance, and purchase of service components. Your estimates should consider the costs to generate, maintain, and disclose or provide the information. You should describe the methods you use to estimate major costs factors, including system and technology acquisition, expected useful life of capital equipment, discount rate(s), and the period over which you incur costs. Capital and startup costs include, among other items, computers and software you purchase to prepare for collecting information; monitoring, sampling, drilling, and testing equipment; and record storage facilities.

Your estimates should not include equipment or services purchased: (i) Before October 1, 1995; (ii) to comply with requirements not associated with the information collection; (iii) for reasons other than to provide information or keep records for the Government; or (iv) as part of customary and usual business or private practices.

The Paperwork Reduction Act of 1995 provides that an agency shall not conduct or sponsor, and a person is not required to respond to, a collection of information unless it displays a currently valid OMB Control Number.

Dated: July 31, 2000.
R. Dale Fazio,
Acting Associate Director for Royalty Management.

[FR Doc. 00-19654 Filed 8-2-00; 8:45 am]

BILLING CODE 4310-MR-M